DEPARTMENT OF HOUSING AND URBAN DEVELOPMENT

[Docket No. FR-4800-C-2A]

Super Notice of Funding Availability (SuperNOFA) for HUD's Discretionary Programs for Fiscal Year 2003; Technical Correction

AGENCY: Office of the Secretary, HUD.

ACTION: Super Notice of Funding Availability (SuperNOFA) for HUD Discretionary Programs; technical correction.

SUMMARY: On April 25, 2003, HUD published its Fiscal Year 2003 Super Notice of Funding Availability (SuperNOFA) for HUD's Discretionary Programs. This document makes certain technical corrections to the General Section and the following programs: Assisted Living Conversion Program; Community Development Technical Assistance; Continuum of Care Homeless Assistance; Fair Housing Initiatives Program (FHIP); Healthy Homes Demonstration; Housing Counseling; Housing Opportunities for Persons with AIDS; Lead Hazard Control; Lead Outreach Grant Program; Resident Opportunities and Self-Sufficiency (ROSS); Rural Housing and Economic Development; Service Coordinators in Multifamily Housing; and Youthbuild.

This notice also extends the application due date for the ROSS for Homeownership Supportive Services to July 7, 2003.

DATES: The application due date for the ROSS Program for Homeownership Supportive Services is extended to July 7, 2003. All other application due dates remain as published in the Federal Register on April 25, 2003.

FOR FURTHER INFORMATION CONTACT: For the Programs listed in this notice, please contact the office or individual listed under the “For Further Information” heading in the individual program section of the SuperNOFA, published on April 25, 2003.

SUPPLEMENTARY INFORMATION: On April 25, 2003 (68 FR 21001), HUD published its Fiscal Year (FY) 2003 Super Notice of Funding Availability (SuperNOFA) for HUD's Discretionary Programs. The FY 2003 SuperNOFA announced approximately $2.3 billion in HUD program funds covering 43 funding opportunities within programs operated and administered by HUD offices.

Summary of Technical Corrections

Summaries of the technical corrections that will be made by this document are as follows. The page numbering shown in brackets identifies where the individual funding availability announcement that is being corrected can be found in the April 25, 2003, SuperNOFA.

General Section of SuperNOFA [Page 21002]

On page 21002, the “Addresses” paragraph is amended by removing the references to appendices and substituting the references to the correctly numbered appendices.

HUD amends the SuperNOFA Funding Chart, on page 21011, to include Catalog of Federal Domestic Assistance (CFDA) numbers for programs for which CFDA numbers were inadvertently transposed in the April 25, 2003, publication.

In the SuperNOFA Funding Chart on page 21015, HUD amends the application due date for the ROSS for Homeownership Supportive Services by extending the due date to July 7, 2003.

Paragraph (H) “Forms, Certifications, and Assurances,” on page 21019, is amended to substitute the correct form number for HUD's Program Outcome Logic Model form (HUD-96010).

On page 21019, paragraph (K) “OMB Circulars and Government-wide Regulations Applicable to Financial Assistance Programs” is amended to add an additional URL from which applicants may obtain Office of Management and Budget (OMB) circulars.

On pages 21066 and 21067, the form “Certification Regarding Debarment and Suspension” is removed.

Community Development Technical Assistance [Page 21083]

Paragraph I(A) of page 21085 is amended to change the application due date to June 4, 2003.

On page 21092, in paragraph VI(I) “Forms,” the reference to the General Section of the SuperNOFA is corrected to read “Section V(H) of the General Section.”

Fair Housing Initiatives Program (FHIP) [Page 21195]

Under “Eligible Activities,” on pages 21199-21200, the language is amended to clarify the requirements under the Regional/Local/Community-Based Programs.

Under “Rating Factor 3: Soundness of Approach,” on page 21208, the text is changed to clarify that four points under this subfactor will be given if the applicant is a grassroots faith-based or other community-based organization, or if the applicant proposes to partner or sub-contract with a grassroots, faith-based, or other community-based organization.

Housing Counseling Program [Page 21241]

In paragraph (A) under Rating Factor 1, on page 21247, the language is corrected to state that scoring will be based on the number of years of recent experience of project directors in addition to counselors. In addition, on page 21249, Rating Factor 1 is amended to instruct applicants to indicate the total dollar value of the resources the applicant was able to leverage in support of the housing counseling program, not including the applicant's HUD housing counseling grants (if applicable), for the period October 1, 2001, to September 30, 2002. (See page 21249.)

Paragraph 3 under Rating Factor 5, entitled “Submission Requirements for Factor 5,” is amended to instruct applicants that they must submit a program evaluation plan using the Program Outcome Logic Model form (HUD-96010) that demonstrates how the applicant will measure program performance. (See page 21251.)

On page 21252, paragraph (1), under section VI. “Application Submission Requirements” is amended to exclude: Form HUD-424-CB, Grant Application Detailed Budget; Form HUD-424-CBW, Grant Application Detailed Budget Worksheet; and Form HUD-27061, Race and Ethnic Data Reporting Form.

Appendix B, on page 21254, is amended to substitute contact person E. Carolyn Hogans, (404) 331-5001, extension 2129, for Fellece Sawyer-Coleman.

Section 8 Homeownership Voucher-Housing Counseling Grant Program [Page 21261]

Paragraph (A) under Rating Factor 1, on page 21266, is amended to include a statement that scoring will be based on the number of years of recent experience of project directors in addition to counselors. In addition, on page 21267, Rating Factor 1 is amended to instruct applicants to indicate the total dollar value of the resources the applicant was able to leverage in support of the housing counseling program, not including the applicant's HUD housing counseling grants (if applicable), for the period October 1, 2001, to September 30, 2002.

Paragraph 3 under Rating Factor 5, on page 21269, is amended to instruct applicants that they must submit a program evaluation plan using the Program Outcome Logic Model form (HUD-96010) that demonstrates how the applicant will measure program performance.

On page 21271, paragraph (1) under section VI. “Application Submission Requirements,” is amended to exclude: Form HUD-424-CB, Grant Application Detailed Budget; Form HUD-424-CBW, Grant Application Detailed Budget Worksheet; and Form HUD-27061, Race and Ethnic Data Reporting Form.

Appendix B is amended to substitute contact person E. Carolyn Hogans, (404) 331-5001, extension 2129, for Fellece Sawyer-Coleman. (See page 21272.)

Lead-Based Paint Hazard Control Grant Program [Page 21279]

On page 21282, middle column, paragraph (B)(4) is amended to state that prior to actual execution of the grant agreement, local and state applicants must enter into contractual relationships or other formal arrangements with grassroots, faith-based or other community-based organizations.

On page 21290, middle column, paragraph (4), entitled, “Lead Hazard Control Outreach and Community Private Sector Involvement,” is amended to clarify that applicants that partner, fund, or subcontract with grassroots, faith-based, or other community-based organizations will receive one point under this subfactor.

In Rating Factor 4: Leveraging Resources, on page 21291, the language is amended to clarify that state and local government applicants must have a contractual or other formal relationship with a grassroots, faith-based, or other community-based organization.

In Appendix C, on page 21312, a new paragraph is inserted prior to “Required Forms” and subsequent to “Abstract Summary.” The new paragraph, “Work Plan and Budget,” applies to current grantees that are eligible to submit a Performance-Based Renewal Application.

Healthy Homes Demonstration Program [Page 21363]

Under Rating Factor 1: Capacity of the Applicant and Related Organizational Experience, on page 21369, the description of the rating factor requirements is corrected to explain that higher points will be received by applicants that are, or propose to partner, fund or sub-contract with grassroots organizations, including faith-based or other community-based nonprofits.

Lead Outreach Grant Program [Page 21399]

Under Rating Factor 1: Capacity of the Applicant and Related Organizational Experience, on page 21403, the language is amended to clarify requirements under this rating factor.

On page 21404, under Rating Factor 3: Soundness of Approach, the text is amended to instruct applicants that higher rating points will be received by applicants that include higher percentages of funding or sub-contracting for substantive work by grassroots organizations, including faith-based, or other community based, nonprofit organizations. In addition, on page 21405, paragraph (6) is amended to further clarify the requirements under Rating Factor 3.

Youthbuild Program [Page 21453]

On page 21455, under Additional Information, two references to the application due date are amended to clarify the due date and application submission processes.

In Appendix B, HUD removes the form entitled, “Line Item Budget for Federal Funds for the Rural Housing and Economic Development Program,” which was inadvertently included in the Youthbuild NOFA at page 21476.

Rural Housing and Economic Development (RHED) [Page 21477]

On page 21480, in the definition of “A Firm Commitment,” the earliest date that the letter of firm commitment may be dated is corrected from the date not earlier than the date of publication of the SuperNOFA to the date on which the SuperNOFA was made available for public inspection, April 17, 2003.

On page 21485, under Rating Factor 4 “ Leveraging Resources, the list of available points, based on the ratio of leveraged to RHED funds, are amended to include 8 points for applicants that demonstrate evidence of 49-40 percent of requested HUD RHED funds. Consequently, the document is amended to state that 6 points are available for applicants that demonstrate 39-30 percent of requested HUD RHED funds, 4 points are available for applicants that demonstrate 29-20 percent of requested HUD RHED funds, 2 points are available for applicants that demonstrate 19-9 percent of requested HUD RHED funds, and 0 points will be awarded if less than 9 percent of HUD RHED requested funds are leveraged.

Resident Opportunities and Self-Sufficiency (ROSS) [Page 21507]

The application due date for the Homeownership Supportive Services category is July 7, 2003 (see page 21510). If you submitted an application for the Homeownership Supportive Services NOFA, you will be provided the opportunity to resubmit your application in accordance with the July 7, 2003, deadline date. The address for submission remains unchanged. In evaluating applications received for the Homeownership Supportive Services NOFA, HUD will consider the application with the latest date.

A new table is inserted that identifies the due dates, funding available, and application submission address.

On page 21509, a correction is made to clarify that resident organizations are not eligible for the Neighborhood Networks funding category. In addition, a clarification is made to explain that only PHAs, Tribes/TDHEs, and qualified nonprofits are eligible to apply for the Homeownership Supportive Services category.

On page 21510, the reference to Appendix B is corrected to refer to Appendix A. Also, on page 21510, the NOFA is corrected to reflect the application submission address. The correct address is: Grants Management Center, Mail Stop: (Insert Name of Program or Funding Category), 2001 Jefferson Davis Highway, Suite 703, Arlington, VA 22202.

In section III of the ROSS NOFA, Resident Services Delivery Models-Family, four corrections are made. On page 21515, paragraph (H)(3) concerning the need for Contract Administrators, the reference to “Section III” is corrected to “Section II.” In addition, paragraph (H) in the middle column is changed to (I). On page 21516, in the paragraph entitled “Note,” the reference to “Section VIII” is corrected to read “Section VII.” In addition, on page 21517, under Rating Factor 3, paragraph (A) (1) “Specific Services and/or Activities” the reference to “Appendix B” is corrected to refer to “Appendix A.” Finally, on page 21518, under Rating Factor 5, the reference to “consortium members” is changed to “partners.”

In section IV of the ROSS NOFA, Resident Services Delivery Models-Elderly/Persons with Disabilities, five corrections are made. First, on page 21520, paragraph (H)(3) concerning need for Contract Administrators corrects the reference to “Section III” to “Section II.” On page 21521, in the paragraph entitled “Note,” the reference to “Section VIII” is corrected to refer to “Section VII.” In addition, on page 21522, paragraph (A)(1), under Rating Factor 3, “Specific Services and/or Activities” corrects the reference from “Appendix B” to “Appendix A.” In paragraph (A)(1)(b) of the same rating factor, the reference to “economic opportunity” is changed to “quality of life.” Finally, on page 21524, under Rating Factor 5, reference to “consortium members” is changed to “partners.”

In section V of the ROSS NOFA, Homeownership Supportive Services, five corrections are made. First, on page 21524, in paragraph (C)(1)(a), the sentence that reads, “Nonprofit entities that have resident support or RAs/ROs are limited to $100,000 for each RA/RO” is corrected to read: “Nonprofit entities that have resident support or the support of RAs/ROs are limited to $100,000 for each RA/RO.” Second, on page 21526, paragraph (H)(3), regarding need for Contract Administrators, the reference to “Section III” is corrected to refer to “Section II.” On page 21527, in the paragraph entitled “Note”, the reference to “Section VIII” is changed to refer to “Section VII.” On page 21528, in paragraph (A)(1), under Rating Factor 3, the reference to “Appendix B” is changed to “Appendix A.” Finally, on page 21529, the reference to “consortium members” is changed to “partners.”

In section VI of the ROSS NOFA, Neighborhood Networks, several corrections are made. On page 21530, in paragraph (A), entitled “Program Description,” reference to “Appendix B” is corrected to refer to “Appendix A.” On page 21530, in paragraphs(C)(1) and (2), the sentences that read, “Nonprofit entities that have resident support or RAs/ROs are limited to $100,000 for each RA/RO” are changed to read: “Nonprofit entities that have resident support or the support of RAs/ROs are limited to $100,000 for each RA/RO.” In addition, on page 21531, in paragraph (F)(17), “Administrative Costs,” the sentence: “For existing NN centers, administrative costs must not exceed 10 percent of the total grant amount requested from HUD” is changed to read: “For both new and existing NN centers, administrative costs must not exceed 10 percent of the total grant amount requested from HUD.”

In addition, in section VI, Neighborhood Networks, on page 21532, paragraph (H)(3) concerning need for Contract Administrators, the reference to “Section III” is corrected to refer to “Section II.” On page 21532, paragraph (I)(3) regarding the work plan, the reference to “Appendix B” is corrected to be “Appendix A.” In addition, on page 21533, in the paragraph entitled “Note”, the reference to “Section VIII” is corrected to refer to “Section VII.”

Also, in section VI, Neighborhood Networks, on page 21534, Rating Factor 2, the scores for each subfactor are changed to total the 15 points available for Rating Factor 2, as follows:

(1) Socioeconomic Profile (5 points).

(2) Local Training Program Information (3 points).

(3) Resource Documentation (3 points).

(4) Demonstrated Link Between Proposed Activities and Local Need (4 points).

In addition, in section VI, Neighborhood Networks, on page 21534, in the first paragraph under Rating Factor 3, the reference to “Appendix B” is changed to refer to “Appendix A.” On page 21535, in Rating Factor 5, the reference to “consortium members” is changed to “partners.” On page 21538, the paragraph entitled, “Unacceptable Applications” is amended to state, “Notification of rejection must state the basis for the decision.”

Continuum of Care Homeless Assistance Programs [Page 21579]

On page 21589, the page limitation for Exhibit 1, the Continuum of Care Narrative, is amended to reflect a page limitation of 30 pages.

Housing Opportunities for Persons with AIDS (HOPWA) [Page 21739]

On page 21749, the application submission requirements for Part C of the HOPWA NOFA are amended to include the completion of the HOPWA Project Budget Form and statutory certifications form.

Appendix A, beginning at page 21760, is amended by inserting a form, “Permanent Supportive Housing Worksheet,” which was inadvertently excluded from the April 25, 2003, publication.

Assisted Living Conversion Program [Page 21794]

On page 21795, the application due date is corrected to reflect a July 10, 2003, due date. In addition, on page 21795, the data listed in the chart, “Fiscal Year Allocation 2003 for the Assisted Living Conversion Program (ALCP) of Eligible Assisted Multifamily Projects” will be updated to reflect the accurate allocations. Also, on page 21805 under “Appendix A” and on page 21806 under “Appendix B,” entitled, “HUD Field Office List for Mailing Assisted Living Conversion Program Application,” the zip code for the HUD Minneapolis Office is corrected to read as 55402-4012.

Service Coordinators in Multifamily Housing Program [Page 21855]

In Appendix A, beginning in the third column on page 21861, the “HUD Field Office List for Mailing Service Coordinator Applications” is amended to include the corrected address and/or telephone information for HUD Field Offices in: Alaska, Arizona, Connecticut, Hawaii, Idaho, Minnesota, Montana, North Dakota, South Dakota, Wyoming, New York, Ohio, Cleveland, Ohio, Oregon, Puerto Rico, South Carolina, Texas, San Antonio, Texas, Utah, and Washington.

Accordingly, in the Super Notice of Funding Availability (SuperNOFA) for HUD's Discretionary Programs for Fiscal Year 2003 (Docket No. FR-4800-N-01), beginning at 68 FR 21002, in the issue of April 25, 2003, the following corrections are made:

1. General Section of SuperNOFA, Beginning at Page 21002

On page 21002, in the third column in the paragraph titled “Addresses,” the fourth and fifth sentences are amended as follows, “Addresses for field offices are listed in Appendix A-1 of the General Section of the SuperNOFA. For applications directed to the Office of Native American Programs Field Offices, please be sure to use the addresses provided in Appendix A-3.”

On page 21011, in the first column of the “HUD 2003 SuperNOFA Funding Chart,” under “Community Development,” the cell labeled “McKinney-Vento Homeless Assistance Programs TA,” is amended to remove CFDA No. 14.241 and insert the following CFDA numbers: CFDA No. 14.231, CFDA No. 14.235, CFDA No. 14.238.

On page 21011, in the first column of the “HUD 2003 SuperNOFA Funding Chart,” under “Community Development,” the cell labeled “HOPWA TA” is amended to remove CFDA No. 14.235 and insert the following CFDA number: CFDA No. 14.241.

On page 21015, in the first column of the “HUD 2003 SuperNOFA Funding Chart,” in the third column “Application Due Date,” in the row labeled, “ROSS for Homeownership Supportive Services,” the date is amended by removing June 7, 2003, and substituting July 7, 2003.

A corrected “HUD 2003 SuperNOFA Funding Chart” that reflects these revisions reads as follows:

BILLING CODE 4210-32-P

BILLING CODE 4210-32-C

On page 21019, the bulleted list under paragraph (H) “Forms, Certifications, and Assurances” is amended by revising the last bullet on the list to read, “Program Outcome Logic Model form (HUD-96010).”

On page 21019, at the top of the third column within the paragraph (K) that begins in the middle column, the last sentence of the paragraph is amended to read as follows, “Copies of the OMB Circulars may be obtained from EOP Publications, Room 2200, New Executive Office Building, Washington, DC 20503, telephone (202) 395-3080 (this is not a toll-free number) or 1-800-877-8399 (TTY Federal Information Relay Service) or from HUD's Web site: http://www.hud.gov/offices/adm/grants/fundsavail.cfm or http://www.whitehouse.gov/omb/circulars/index.html.”

On pages 21066 and 21067, the form, HUD-2992 is removed.

2. Community Development Technical Assistance, Beginning at Page 21083

On page 21085, under paragraph 1.(A) “Application Due Date,” the paragraph is amended to read as follows, “(A) Application Due Date. Applicants must submit completed applications on or before June 4, 2003, to the addresses shown below.”

3. Fair Housing Initiatives Program (FHIP), beginning at page 21195

On page 21199, paragraph (b) “Eligible Activities,” which begins at the bottom of the third column and continues to the first column of page 21200, is corrected to read as follows: “(b) Eligible Activities. The following are eligible activities for EOI: conducting educational symposia or other training; developing new and innovative fair housing activities or materials throughout your project area; providing outreach and information on fair housing through printed and electronic media; developing fair housing curricula, and providing outreach to persons with disabilities and/or their support organizations and service housing providers working with homeless activists or persons to determine if fair housing plays a part in the homeless situation, and the general public regarding the rights of persons with disabilities under the Act. When conducting your outreach activities, we also encourage the use of existing, fair housing materials; except that we require that you translate these existing materials in languages other than English. The applicants for the Regional/Local/Community-Based Programs who submit an application in conjunction with a grassroots faith-based, or other community-based organization must include in their application a letter of firm commitment from that grassroots faith-based, or other community based organization. This letter of firm commitment must: (1) Identify the grassroots, faith-based, or other community-based organization; (2) identify the activities/tasks to be undertaken by the grassroots faith-based, or other community-based organization under the project; and (3) be signed by the individual or organization with legal authority to make commitments for the organization. These components are described below:”

On page 21208, in the middle column, paragraph (a)(1)(v)(a) is corrected to read as follows: “(a) Four points under this subfactor if you are a grassroots faith-based, or other community-based organizations, or propose to partner or sub-contract with grassroots faith-based, or other community-based organizations.”

4. Housing Counseling Program, Beginning at Page 21241

On page 21247, in the middle column under Rating Factor 1, the second paragraph under section (A) is amended to read as follows: “Specifically, for LHCAs, scoring will be based on the number of years of recent experience of project directors and recent housing counseling experience of counselors. For intermediaries and SHFAs, scoring will be based on: the number of years of recent experience of project directors and recent housing counseling experience of counselors in affiliates and branches; and the number of years, for key intermediary/SHFA personnel, of recent experience running a housing counseling program consisting of a network of multiple counseling agencies. Related experience, such as experience in mortgage lending, will also be considered, but will not be weighted as heavily as direct housing counseling or housing counseling program management experience.”

On page 21249, in the first column, the second paragraph in section (B3) is amended to read as follows: “Provide all the information requested in Section B1 and B2 above, except outcomes, relevant to the non-HUD funded activities recorded on the form HUD-9902, submitted with this application. Indicate the total dollar value of the resources you were able to leverage in support of your housing counseling program, not including your HUD housing counseling grant(s) (if applicable), for the period October 1, 2001, to September 30, 2002.”

On page 21251, in the middle column, the introductory paragraph to the subsection titled, “Submission Requirements for Factor 5” is amended to read as follows: “Submission Requirements for Factor 5. Applicants must submit an effective, quantifiable, outcome-oriented evaluation plan for measuring performance and determining that output and outcome goals have been met. You must submit a program evaluation plan, using the Program Outcome Logic Model form (HUD-96010), that demonstrates how you will measure your own program performance. Your Evaluation Plan should identify what you are going to measure, how you are going to measure it, and the steps you have in place to make adjustments to your work plan if performance targets are not met within established timeframes. Specifically, you plan must identify:'

On page 21252, in the third column, paragraph (1) under section VI., “Application Submission Requirements” is amended to read as follows: “The standard forms, certifications, and assurances listed in Section V(H) of the General Section of the SuperNOFA (collectively, referred to as the “standard forms,”) with the exception of the HUD-424-CB, Grant Application Detailed Budget; the HUD-424-CBW, Grant Application Detailed Budget Worksheet; and the HUD-27061, Race and Ethnic Data Reporting Form.”

On page 21254, Appendix B, in the first column, the contact information for the Atlanta Homeownership Center is amended as follows: “Atlanta Homeownership Center, Ms. Gayle Knowlson, 40 Marietta Street, 8th Floor, Atlanta, GA, 30303-2806, Contact: E. Carolyn Hogans, (404) 331-5001, x2129.”

5. Section 8 Homeownership Voucher—Housing Counseling Grant Program, Beginning at Page 21261

On page 21266, in the middle column under Rating Factor 1, the second paragraph under section (A) is amended to read as follows: “Specifically, for LHCAs, scoring will be based on the number of years of recent experience of project directors and recent housing counseling experience of counselors. For intermediaries and SHFAs, scoring will be based on: the number of years of recent experience of project directors and recent housing counseling experience of counselors in affiliates and branches; and the number of years, for key intermediary/SHFA personnel, of recent experience running a housing counseling program consisting of a network of multiple counseling agencies. Related experience, such as experience in mortgage lending, will also be considered, but will not be weighted as heavily as direct housing counseling or housing counseling program management experience.”

On page 21267, in the third column, the second paragraph in section (E) is amended to read as follows: “Provide all the information requested in Section C and D above, except outcomes, relevant to the non-HUD funded activities recorded on the form HUD-9902, submitted with this application. Indicate the total dollar value of the resources you were able to leverage in support of your housing counseling program, not including your HUD housing counseling grant(s) (if applicable), for the period October 1, 2001, to September 30, 2002.”

On page 21269, in the third column, the introductory paragraph to the subsection titled, “Submission Requirements for Factor 5” is amended to read as follows: “Submission Requirements for Factor 5. Applicants must submit an effective, quantifiable, outcome-oriented evaluation plan for measuring performance and determining the output and outcome goals have been met. You must submit a program evaluation plan, using the Program Outcome Logic Model form (HUD-96010), that demonstrates how you will measure your own program performance. Your Evaluation Plan should identify what you are going to measure, how you are going to measure it, and the steps you have in place to make adjustments to your work plan if performance targets are not met within established timeframes. Specifically, you plan must identify:”

On page 21271, in the first column, paragraph (1) is amended to read as follows: “The standard forms, certifications, and assurances listed in Section V(H) of the General Section of the SuperNOFA (collectively, referred to as the “standard forms,”) with the exception of the HUD-424-CB, Grant Application Detailed Budget; the HUD-424-CBW, Grant Application Detailed Budget Worksheet; and the HUD-27061, Race and Ethnic Data Reporting Form.”

On page 21272, Appendix B, in the first column, the contact information for the Atlanta Homeownership Center is amended as follows: “Atlanta Homeownership Center, Ms. Gayle Knowlson, 40 Marietta Street, 8th Floor, Atlanta, GA, 30303-2806, Contact: E. Carolyn Hogans, (404) 331-5001, x2129.”

6. Lead-Based Paint Hazard Control Grant Program, Beginning at Page 21279

On page 21282, in the middle column, paragraph (B)(4) is corrected to read as follows: “(4) Contracts or other formal arrangements with nonprofit, grassroots, faith-based, or other community-based organizations. If selected for funding, local and state applicants must enter into contractual relationships or other formal arrangements with grassroots, faith-based, or other community-based organizations. Such relationships must be established prior to actual execution of the grant agreement. This requirement does not apply to Native American Tribes.”

On page 21290, in the middle column, paragraph (4) is corrected to read as follows: “(4) Lead Hazard Control Outreach and Community Private Sector Involvement (6 points). Applicants are encouraged to solicit participation of grassroots, faith-based, or other community-based and private sector organizations to accomplish outreach and community involvement activities and to build long-term capacity to sustain accomplishments in the target area. Applicants that partner, fund, or subcontract with grassroots, faith-based, or other community-based organizations will receive one point in this subfactor. Your application must describe:”

On page 21291, in the first column, the first paragraph under Rating Factor 4: Leveraging Resources, is corrected to read as follows: “This factor addresses your ability to obtain other community and private sector resources that can be combined with HUD's program resources to achieve program objectives. In evaluating this factor, HUD will consider the extent to which you have established working partnerships with other entities to get additional resources or commitments to increase the effectiveness of the proposed program activities (see Appendix A of this NOFA for Sample Worksheet 7 (Match Funding) and Worksheet 8 (Grant Partners)). Resources may include cash or in-kind contributions of services, equipment, or supplies allocated to the proposed program. Resources may be provided by governmental entities, public or private organizations, and other entities partnering with you. Leveraging arrangements with rental property owners may have the benefits of increasing the efficiency of public lead hazard identification and control expenditures and creating a financial stake for rental property owners in the quality of lead hazard control work. Contractual or other formal relationships with grassroots, faith-based, or other community-based organizations are a requirement for state and local government applicants. Documentation of relationships with grassroots, faith-based, or community-based organizations must be provided in this application either in the form of signed agreements or commitment letters. This requirement does not apply to Native American Tribe applicants. You also may partner with other program funding recipients to coordinate the use of resources in your target area(s).”

On page 21312, in the third column, prior to the section titled, “Required Forms,” and subsequent to the section titled, “Abstract Summary,” the NOFA is amended by inserting the following section: “Work Plan and Budget. Current grantees that are eligible to submit a Performance-Based Renewal application and are successful applicants will have their current grant agreements modified to allow for an additional 36-month grant. Eligible current grantee applicants are required to submit the budget forms included in this NOFA and develop a work plan strategy with benchmark standards for conducting lead hazard control program activities. A work plan and budget should be developed for the 36-month period.”

7. Rural Housing and Economic Development, Beginning at Page 21477

On page 21480, the last paragraph in the first column, and continuing into the middle column, is corrected to read as follows: “A Firm commitment means the agreement by which an applicant's partner agrees to perform an activity specified in the application and demonstrates the financial capacity to deliver the resources necessary to carry out the activity, and commits the resources to the activity either in cash or through in-kind contributions and is irrevocable, subject only to approval and receipt of a FY 2003 RHED grant. Each letter of commitment should include the organization's name, the applicant's name, the proposed program, the proposed total level of commitment and responsibilities as they relate to the proposed program. The commitment must be written on letterhead from the participating organization, must be signed by an official of the organization legally able to make commitments on behalf of the organization and dated not earlier than the date on which this NOFA was made available for public inspection (April 17, 2003). In documenting a firm commitment, the applicant's partner must:

On page 21485, in the third column, the numbered list in the first full paragraph is amended to read as follows:

(i) 50% or more of requested HUD RHED funds will receive 10 points;

(ii) 49-40% of requested HUD RHED funds will receive 8 points;

(iii) 39-30% of requested HUD RHED funds will receive 6 points;

(iv) 29-20% of requested HUD RHED funds will receive 4 points;

(v) 19-9% of requested HUD RHED funds will receive 2 points;

(vi) Less than 9% of HUD RHED funds requested will receive 0 points.”

8. Healthy Homes Demonstration Program, Beginning at Page 21363

On page 21369, in the middle column, the first paragraph under Rating Factor 1: Capacity of the Applicant and Related Organizational Experience is corrected to read as follows: “This factor addresses your organizational capacity necessary to successfully implement your proposed activities in a timely manner. The rating of you or your staff includes any faith-based and other community-based organizations, sub-contractors, consultants, sub-recipients, and members of consortia that are firmly committed to your project. Applicants that are, or propose to either partner, fund, or sub-contract with grassroots organizations, including faith-based or other community-based nonprofits, in conducting their work programs will receive higher rating points as specified in the Section II of the General Section of the SuperNOFA. In rating this factor, HUD will consider the four items listed below:”

9. Lead Outreach Grant Program, Beginning at Page 21399

On page 21403, in the third column, the first paragraph under Rating Factor 1: Capacity of the Applicant and Related Organizational Experience, is corrected to read as follows: “This factor addresses your organizational capacity necessary to successfully implement your proposed activities in a timely manner. The rating of you or your staff includes any grassroots organizations, including faith-based or other community-based non-profit organizations, sub-contractors, consultants, sub-recipients, and members of consortia that are firmly committed to your project. For all of the descriptions of personnel and organizational qualifications and experience in this factor, more points will be given for more recent relevant experience of high quality with this kind of work, as documented below. Applicants who are funding or sub-contracting with grassroots organizations, including faith-based, or other community-based nonprofit organizations, in conducting their work programs should include the qualifications and experience of these organizations in responding to this rating factor. In rating this factor HUD will consider:”

On page 21404, in the third column, the last sentence of the first paragraph under Rating Factor 3: Soundness of Approach, is corrected to read as follows: “Applicants will receive higher rating points for approaches that include higher percentages of funding or sub-contracting for substantive work by grassroots organizations, including faith-based, or other community-based, nonprofit organizations.”

On page 21405, in the first column, paragraph (6) is corrected to read as follows: “(6) Proposed involvement of grassroots organizations, including faith-based or other community-based, nonprofit organizations in the proposed activities. HUD strongly encourages you to substantively use grassroots organizations, including faith-based or other community-based, nonprofit organizations. (10 points).”

10. Youthbuild Program, Beginning at Page 21453

On page 21455, in the first column, the introductory paragraph under the section entitled, “Additional Information,” is amended to read as follows: “If you are interested in applying for funding under this program, please carefully review the General Section of this SuperNOFA. Applications are due on or before June 6, 2003.”

On page 21455, beginning in the first column, the first paragraph under 1. Application Due Date and Technical Assistance, is corrected to read as follows: “Application Due Date. Completed applications (one original and two copies) are due on or before June 6, 2003 at the address shown below.”

On page 21476, HUD removes from Appendix B of the Youthbuild Program NOFA the form entitled, “Line Item Budget for Federal Funds for the Rural Housing and Economic Development Program” (HUD-40211).

11. Resident Opportunities and Self-Sufficiency (ROSS), Beginning at Page 21507

On page 21509, in the third column, the paragraph titled, “Eligible Applicants” is amended to read as follows: “Eligible Applicants. Eligible Applicants are Public Housing Agencies (PHAs), tribes/TDHEs, resident management corporations (RMCs), resident councils (RCs), resident organizations (ROs), Intermediary Resident Organizations (IROs), City-Wide Resident Organizations (CWROs), and nonprofits including grassroots, faith-based, and other community-based organizations that have resident support or the support of tribes. Tribes/TDHEs and resident organizations are not eligible for the Neighborhood Networks funding category. Resident Organizations are not eligible to apply for the Homeownership Supportive Services Category. The following chart summarizes the funding categories available under ROSS, eligible applicants, and applicant procedures.”

On page 21509, in the middle column of the table, under “Eligibility” corresponding to the Homeownership Supportive Services program, the text is corrected to read as follows: “Only PHAs, Tribes/TDHEs, and qualified nonprofits are eligible to apply.”

On page 21510, in the first column, under section 1. “Application Due Date, Required Forms, Security Procedures, Further Information and Technical Assistance Application Due Date,” the paragraph titled, “Required Forms” is corrected to read as follows: “Required Forms. In addition to the forms required in the General Section of the SuperNOFA, there are ROSS forms that are required. Please see Section VII and Appendix A of this NOFA for more information on form submission.”

On page 21510, in the first column, under section 1. “Application Due Date, Required Forms, Security Procedures, Further Information and Technical Assistance Application Due Date,” the paragraph titled, “Addresses” is corrected to read as follows: “Addresses. When submitting your application, you must refer to the program for which you are seeking funding and include the room number to ensure that your application is properly directed. The address to use for the GMC is the following: Grants Management Center, Mail Stop: (Insert Name of Program or Funding Category), 2001 Jefferson Davis Highway, Suite 703, Arlington, VA, 22202.”

On page 21515, in the middle column, the last sentence in the paragraph (3) that begins at the bottom of the first column, is corrected to read as follows: “See the definition in Section II of Contract Administrator for more information.”

On page 21515, in the middle column, paragraph (H), entitled, “Program Requirements” is corrected to read: “(I) Program Requirements.”

On page 21516, in the first column, the “Note” is corrected to refer applicants to section VII., instead of section VIII. The amended “Note” now reads as follows: “NOTE: Applicants should carefully review each rating factor before writing a response. Applicants' narratives should be as descriptive as possible, ensuring that every requested item is addressed. Applicants should make sure to include all requested information, according to the instructions found in Section VII of this NOFA. This will help ensure a fair and accurate review of your application. Applications must not be longer than 30 narrative pages. Supporting documentation and certificates will not be counted towards the 30 page limit. However, applicants should make every effort to submit only what is necessary in terms of supporting documentation.”

On page 21517, in the middle paragraph under Rating Factor 3, paragraph (A)(1) is amended to refer to Appendix A. The paragraph is corrected to read as follows: “(1) Specific Services and/or Activities (6 points). Your narrative must describe the specific services and activities you plan to offer and who will be responsible for each. You must also provide a work plan which will enumerate the specific services and activities and outcomes you expect. Please see a sample work plan in Appendix A. HUD will consider how well your proposed activities will:'

On page 21518, in the third column, under Rating Factor 5, the reference to “consortium members” is changed to “partners.” The fourth paragraph in the third column is corrected to read as follows: “In order to satisfy the requirements for Factor 5, you must submit a work plan and a Logic Model that demonstrates how you will measure your own program performance. Your plan must identify the outcomes you expect to achieve or goals you hope to meet over the term of your proposed grant and benchmarks, outputs, and timeframes for accomplishing these goals. Your work plan must show how you will measure actual accomplishments against anticipated achievements. You must indicate how your plan will measure the performance of individual partners and affiliates, including the standards, data sources, and measurement methods, and the steps you have in place or how you plan to make adjustments if you begin to fall short of established benchmarks and timeframes.”

On page 21520, in the middle column, paragraph (3) is amended to read as follows: “(3) All applicants except non-troubled PHAs and tribes/TDHEs are required to submit a signed Contract Administrator Partnership Agreement. The agreement must be for the thirty-six (36) month duration of the grant term. Your grant award shall be contingent upon having a Partnership Agreement included in your application. The Contract Administrator must assure that the financial management system and procurement procedures that will be in place during the thirty-six (36) month grant term will fully comply with either 24 CFR part 84 or 85. Troubled PHAs are not eligible to be Contract Administrators. Grant writers who help applicants to prepare their ROSS applications are also ineligible to be Contract Administrators. See the definition in Section II of Contract Administrator for more information.”

On page 21521, in the middle column, the paragraph “Note” is corrected to read as follows: “NOTE: Applicants should carefully review each rating factor before writing a response. Applicants' narratives should be as descriptive as possible, ensuring that every requested item is addressed. Applicants should make sure to include all requested information, according to the instructions found in Section VII of this NOFA. This will help ensure a fair and accurate review of your application. Applications must not be longer than 30 narrative pages. Supporting documentation and certificates will not be counted towards the 30-page limit. However, applicants should make every effort to submit only what is necessary in terms of supporting documentation.”

On page 21522, in the third column, paragraph (A)(1) is corrected to read as follows: “(1) Specific Services and/or Activities (6 points). Your narrative must describe the specific services and activities you plan to offer and who will be responsible for each. You must also provide a work plan which will enumerate the specific services and activities and outcomes you expect. Please see a sample work plan in Appendix A. HUD will consider how well your proposed activities will: (a) Involve community partners in the delivery of services; and (b) Offer comprehensive services versus a small range of services geared toward enhancing quality of life for residents.”

On page 21524, in the first column, the third full paragraph is corrected to read as follows: “In order to satisfy the requirements for Factor 5, you must submit a work plan and a Logic Model form (HUD-96010) that demonstrates how you will measure your own program performance. Your plan must identify the outcomes you expect to achieve or goals you hope to meet over the term of your proposed grant and benchmarks, outputs, and timeframes for accomplishing these goals. Your work plan must show how you will measure actual accomplishments against anticipated achievements. You must indicate how your plan will measure the performance of individual partners and affiliates, including the standards, data sources, and measurement methods, and the steps you have in place or how you plan to make adjustments if you begin to fall short of established benchmarks and timeframes.”

On page 21524, in the third column, under paragraph (C)(1)(a), the last of the bulleted paragraphs is corrected to read as follows: “Nonprofit entities that have resident support or the support of RAs/ROs are limited to $100,000 for each RA/RO. A nonprofit may submit a single application for no more than three different RAs from the same PHA for a maximum grant award of $300,000. Nonprofits may submit more than one application provided they target residents of distinct PHAs.”

On page 21526, in the first column, paragraph (3) is corrected to read as follows: “(3) All applicants except nontroubled PHAs and tribe/TDHEs are required to submit a signed Contract Administrator Partnership Agreement. The agreement must be for the thirty-six (36) month duration of the grant term. Your grant award shall be contingent upon having a Partnership Agreement included in your application. The Contract Administrator must assure that the financial management system and procurement procedures that will be in place during the thirty-six (36) month grant term will fully comply with either 24 CFR part 84 or 85. Troubled PHAs are not eligible to be Contract Administrators. Grant writers who help applicants to prepare their ROSS applications are also ineligible to be Contract Administrators. See the definition in Section II of Contract Administrator for more information.”

On page 21527, in the first column, the “Note” paragraph is corrected to read as follows: NOTE: Applicants should carefully review each rating factor before writing a response. Applicants' narratives should be as descriptive as possible, ensuring that every requested item is addressed. Applicants should make sure to include all requested information, according to the instructions found in Section VII of this NOFA. This will help ensure a fair and accurate review of your application. Applications must not be longer than 30 narrative pages. Supporting documentation and certificates will not be counted towards the 30 page limit. However, applicants should make every effort to submit only what is necessary in terms of supporting documentation.”

On page 21528, in the middle column, paragraph (1) is corrected to read as follows: “(1) Specific Services and/or Activities (6 points). Your narrative must describe the specific services and activities you plan to offer and who will be responsible for each. You must also provide a work plan which will enumerate the specific services and activities and outcomes you expect. Please see a sample work plan in Appendix A. HUD will consider how well your proposed activities will:”

On page 21529, in the third column, the third paragraph is amended to read as follows: “In order to satisfy the requirements for Factor 5, you must submit a work plan and a Logic Model form (HUD-96010) that demonstrates how you will measure your own program performance. Your plan must identify the outcomes you expect to achieve or goals you hope to meet over the term of your proposed grant and benchmarks, outputs, and timeframes for accomplishing these goals. Your work plan must show how you will measure actual accomplishments against anticipated achievements. You must indicate how your plan will measure the performance of individual partners and affiliates, including the standards, data sources, and measurement methods, and the steps you have in place or how you plan to make adjustments if you begin to fall short of established benchmarks and timeframes. Applicants should also use the Logic Model form (HUD-96010) provided in the General Section of this SuperNOFA for reporting on how they will conduct performance measurement. You will be evaluated based on how comprehensively you propose to measure your program's outcomes.”

On pages 21529-21530, paragraph (A) that begins on the bottom of the third column of page 21529 and continues to the first column of page 21530 is corrected to read as follows: “(A) Program Description. This funding category provides grants to PHAs and qualified nonprofit organizations to: (1) update, maintain and expand existing Neighborhood Networks/community technology centers; or (2) establish new Neighborhood Networks (NN) computer technology centers. NN centers provide computer and Internet access to public housing residents and offer a full range of supportive services. Applicants should submit proposals that will: Provide job training; reduce welfare dependency; promote economic self-sufficiency; increase the use of computer technology; expand educational opportunities for residents; develop access to health and nutrition information; and meet other needs of residents. All applicants must complete a Work Plan (see sample provided in Appendix A) covering the thirty-six (36) month grant term. Applicants' work plan and narrative must indicate how the centers will become self-sustaining after the grant term expires.”

On page 21530, in the middle column, the last bulleted paragraph, prior to paragraph (2), is corrected to read as follows: “Nonprofit entities that have resident support or the support of RAs/ROs are limited to $100,000 for each RA/RO. A nonprofit may submit a single application for no more than three different RAs from the same PHA for a maximum grant award of $300,000. Nonprofits may submit more than one application provided they target residents of distinct PHAs.”

On page 21530, in the middle column, the last bulleted paragraph, prior to paragraph (D), is corrected to read as follows: “Nonprofit entities that have resident support or the support of RAs/ROs are limited to $100,000 for each RA/RO. A nonprofit may submit a single application for no more than three different RAs from the same PHA for a maximum grant award of $300,000. Nonprofits may submit more than one application provided they target residents of distinct PHAs.”

On page 21531, in the third column, paragraph (17) “Administrative Costs” is amended to read as follows: “(17) Administrative Costs. Administrative costs may include, but are not limited to, purchase of furniture, office equipment and supplies, salaries for resident employees hired as part of this grant program, quality assurance, local travel, and utilities. Nonprofit organizations only may use administrative funds to pay for rental of space. For both new and existing NN centers, administrative costs must not exceed 10 percent of the total grant amount requested from HUD.”

On page 21532, in the first column, paragraph (3) is corrected to read as follows: “(3) All applicants except nontroubled PHAs are required to submit a signed Contract Administrator Partnership Agreement. The agreement must be for the thirty-six (36) month duration of the grant term. Your grant award shall be contingent upon having a Partnership Agreement included in your application. The Contract Administrator must assure that the financial management system and procurement procedures that will be in place during the thirty-six (36) month grant term will fully comply with either 24 CFR part 84 or 85. Troubled PHAs are not eligible to be Contract Administrators. Grant writers who help applicants to prepare their ROSS applications are also ineligible to be Contract Administrators. See the definition in Section II of Contract Administrator for more information.”

On page 21532, in the middle column, paragraph (I)(3) is corrected to read as follows: “(3) Applicants shall submit a work plan with their application (see Appendix A for a sample) which shall indicate level and type of expenditures over the three year grant term, contributions from partners, and efforts applicants will make to ensure the NN center will be sustainable once the grant term expires.”

On page 21533, in the first column, the paragraph entitled, “Note” is corrected to read as follows: “NOTE: Applicants should carefully review each rating factor before writing a response. Applicants' narratives should be as descriptive as possible, ensuring that every requested item is addressed. Applicants should make sure to include all requested information, according to the instructions found in Section VII of this NOFA. This will help ensure a fair and accurate review of your application. Applications must not be longer than 30 narrative pages. Supporting documentation and certificates will not be counted towards the 30 page limit. However, applicants should make every effort to submit only what is necessary in terms of supporting documentation.”

On page 21534, in the first and middle columns, the scores for each subfactor (the text otherwise remains unchanged), are corrected to total the 15 points available for Rating Factor 2 as follows:

(1) Socioeconomic Profile (5 points).

(2) Local Training Program Information (3 points).

(3) Resource Documentation (3 points).

(4) Demonstrated Link Between Proposed Activities and Local Need (4 points).

On page 21534, in the middle column, the first paragraph under “Rating Factor 3 Soundness of Approach (30 Points)” is corrected as follows: “This factor addresses both the quality and cost-effectiveness of your proposed work plan. (A sample work plan is included in Appendix A.) Your work plan and supporting narrative must indicate a clear relationship between your proposed activities, the targeted population's needs, and the purpose of the program funding. Your activities must address HUD's policy priorities which relate to this program.”

On page 21535, in the third column, the fourth paragraph is corrected to read as follows: “In order to satisfy the requirements for Factor 5, you must submit a work plan and a Logic Model form (HUD-96010) that demonstrates how you will measure your own program performance. Your plan must identify the outcomes you expect to achieve or goals you hope to meet over the term of your proposed grant and benchmarks, outputs, and timeframes for accomplishing these goals. Your work plan must show how you will measure actual accomplishments against anticipated achievements. You must indicate how your plan will measure the performance of individual partners and affiliates, including the standards, data sources, and measurement methods, and the steps you have in place or how you plan to make adjustments if you begin to fall short of established benchmarks and timeframes. Applicants should also use the Logic Model form (HUD-96010) provided in the General Section of this SuperNOFA for reporting on how they will conduct performance measurement. You will be evaluated based on how comprehensively you propose to measure your program's outcomes.”

On page 21538, in the middle column, the paragraph titled, “Unacceptable Applications” is corrected to read as follows: “Unacceptable Applications. After the 14-day technical deficiency correction period, the Grants Management Center (GMC), or the DPONAP for tribal and TDHE applicants, will disapprove all applications that the GMC or DPONAP determines are not acceptable for processing. Notification of rejection must state the basis for the decision. The applicant may request a debriefing. Applicants requesting to be debriefed must send a written request to Michael Diggs, Director, Grants Management Center, Department of Housing and Urban Development, 501 School Street, SW., Suite 800, Washington, DC 20024. For tribal and TDHE applicants, contact Deborah Lalancette, Director, Grants Management, DPONAP, 1999 Broadway, Suite 3390, Denver, CO 80202.”

12. Continuum of Care Homeless Assistance Programs, Beginning at Page 21579

On page 21589, in the first column, in the third full paragraph, the first two sentences are amended by substituting the following sentences that reflect an increase in page limitation from 25 to 30 pages: “The application requires a description of the Continuum of Care system and the proposed project(s). To ensure that no applicant is afforded an advantage in the rating of the Continuum of Care element (described in Section V (A)(4) above), HUD is establishing a limitation of 30 pages, excluding required multiple page tables or charts but including any attachments, on the length of Exhibit 1 of any application submitted in response to this NOFA.”

13. Housing Opportunities for Persons With AIDS (HOPWA), Beginning at Page 21739

On page 21749, in the middle column, section VII, entitled “Application” is amended by adding the following:

“(D) Budget. You must complete the HOPWA Project Budget Forms found in Appendix D of the Program Section of the SuperNOFA, which lists the amount of requested HOPWA funds designated for each type of HOPWA-eligible activity.

(E) Statutory Certifications. You must complete the statutory certifications as outlined in Part A, Section VI of this Program section.”

Appendix A, beginning at page 21760, is amended by adding a new form, “Permanent Supportive Housing Worksheet.”

BILLING CODE 4210-32-P

BILLING CODE 4210-32-C

14. Assisted Living Conversion Programs, Beginning at Page 21794

On page 21795, in the third column, the table that appears at the end of the column and that continues to the first column on page 21796, is amended as follows:

Office | $ allocation
Boston, MA | 2,758,217
Buffalo, NY | 1,093,990
New York, NY | 3,683,840
Baltimore, MD | 2,111,481
Philadelphia, PA | 4,575,436
Atlanta, GA | 4,263,039
Greensboro, NC | 2,650,130
Jacksonville, FL | 4,152,573
Chicago, IL | 3,508,109
Columbus, OH | 1,796,621
Detroit, MI | 1,717,273
Minneapolis-St. Paul, MN | 1,573,456
Ft. Worth, TX | 4,997,288
Kansas City, KS | 2,530,207
Denver, CO | 1,294,088
Los Angeles, CA | 4,660,878
San Francisco, CA | 4,587,804
Seattle, WA | 2,045,568
Total | 54,000,000

On page 21795, in the first column, in the first paragraph under “1. Application Due Date, Application, and Technical Assistance” the paragraph is corrected to read as follows: “Application Due Date. Your completed application (one original and four copies) is due on July 10, 2003, at the address shown below.”

On page 21805 in the first column, under the HUD Minneapolis Hub, the zip code is corrected to read: 55402-4012.

On page 21806, in the first column, under the HUD Minneapolis Hub, the zip code is corrected to read: 55402-4012.

15. Service Coordinators in Multifamily Housing Program, Beginning at Page 21855

In Appendix A, beginning in the third column on page 21861, the following corrections are made to the list of HUD Field Offices: (Information that is not corrected in this document remains unchanged from the April 25, 2003 publication)

Alaska, Idaho, Oregon, Washington, OFC Phone: (206) 220-6420.

Arizona, MF Division, Phoenix Program Center, One North Central, Suite 600, Phoenix, AZ 85004, OFC Phone: (602) 379-7153.

Connecticut, OFC Phone: (860) 240-4800 Ext. 3041.

Hawaii, Dept. of Housing and Urban Development, 500 Ala Moana Blvd., Suite 3A, Honolulu, HI 96813.

Minnesota, 920 2nd Ave. South, Suite 1300, Minneapolis, MN 55402-4012.

Montana, North Dakota, South Dakota, Utah, Wyoming, TTY Number: (303) 672-5113.

New York, HUD Buffalo Office, Multifamily Housing Program Center, 465 Main Street, Lafayette Court, 2nd Floor, Buffalo, NY 14203-1780.

Ohio:

HUD Cincinnati Office, Multifamily Housing Program Center, 15 East 7th Street, Cincinnati, OH 45202.

HUD Cleveland Office, Fax: (216) 522-4120.

Puerto Rico, HUD Caribbean Office, Multifamily Housing Program Center, 159 Carlos E. Chardon Avenue, San Juan, PR 00918-1804.

South Carolina, OFC Phone: (803) 253-3288, Fax: (803) 253-3429.

Texas:

HUD Houston Office, OFC Phone: (713) 313-2274 ext. 7124, fax number (713) 313-2350.

HUD San Antonio Office, Office of Housing, Multifamily Program Center, One Alamo Center, 106 South St. Mary's, Suite 405, San Antonio, TX 78205.

Dated: June 11, 2003.
Vickers B. Meadows,
Assistant Secretary for Administration.

[FR Doc. 03-15370 Filed 6-16-03; 8:45 am]

BILLING CODE 4210-32-P